DEPARTMENT OF TRANSPORTATION

Federal Aviation Administration

14 CFR Part 39

[Docket No. FAA-2018-0696; Product Identifier 2017-SW-101-AD; Amendment 39-19650; AD 2019-11-04]

RIN 2120-AA64

Airworthiness Directives; Airbus Helicopters Deutschland GmbH Helicopters

AGENCY: Federal Aviation Administration (FAA), Department of Transportation (DOT).

ACTION: Final rule.

SUMMARY: We are adopting a new airworthiness directive (AD) for certain Airbus Helicopters Deutschland GmbH (Airbus Helicopters) Model MBB-BK 117 D-2 helicopters. This AD requires replacing the rescue hoist cable cut pushbutton flip guard (flip guard). This AD was prompted by reports of unintended lifting of several flip guards. We are issuing this AD to address the unsafe condition on these products.

DATES: This AD is effective July 12, 2019.

ADDRESSES: For service information identified in this final rule, contact Airbus Helicopters, 2701 N. Forum Drive, Grand Prairie, TX 75052; phone: (972) 641-0000 or (800) 232-0323; fax: (972) 641-3775; or at http://www.helicopters.airbus.com/website/en/ref/Technical-Support_73.html. You may review the referenced service information at the FAA, Office of the Regional Counsel, Southwest Region, 10101 Hillwood Pkwy, Room 6N-321, Fort Worth, TX 76177.

Examining the AD Docket

You may examine the AD docket on the internet at http://www.regulations.gov by searching for and locating Docket No. FAA-2018-0696; or in person at Docket Operations between 9 a.m. and 5 p.m., Monday through Friday, except Federal holidays. The AD docket contains this final rule, the European Aviation Safety Agency (EASA) AD, the regulatory evaluation, any comments received, and other information. The address for Docket Operations is U.S. Department of Transportation, Docket Operations, M-30, West Building Ground Floor, Room W12-140, 1200 New Jersey Avenue SE, Washington, DC 20590.

FOR FURTHER INFORMATION CONTACT: Clark Davenport, Flight Test Engineer, Flight Test Branch, Compliance and Airworthiness Division, FAA, 10101 Hillwood Parkway, Fort Worth, TX 76177; phone: 817-222-5151; email: clark.davenport@faa.gov.

SUPPLEMENTARY INFORMATION:

Discussion

We issued a notice of proposed rulemaking (NPRM) to amend 14 CFR part 39 by adding an AD that would apply to certain Airbus Helicopters Model MBB BK 117 D 2 helicopters. The NPRM published in the Federal Register on August 27, 2018 (83 FR 43559). The NPRM was prompted by reports of unintended lifting of several flip guards. The NPRM proposed to require replacing the flip guard with flip guard part number (P/N) 79553511 on the collective lever switch unit.

We are issuing this AD to address unintended lifting of a flip guard. This condition could result in inadvertent cutting of the rescue hoist cable and subsequent personal injury.

EASA, which is the Technical Agent for the Member States of the European Union, issued EASA AD No. 2017-0038, dated February 22, 2017 (EASA AD No. 2017-0038), to correct an unsafe condition for certain Airbus Helicopters Models MBB-BK 117 D-2 and MBB-BK 117 D-2m helicopters. EASA advises that multiple events were reported of unintended lifting of the flip guard and that the flip guard has two stable positions, open and closed. EASA AD No. 2017-0038 states that if the unintended lifting is not detected, the requirement for dual action when activating the rescue hoist cable cut is not guaranteed. According to EASA, this condition, if not corrected, could result in inadvertent cutting of the rescue hoist cable and subsequent personal injury.

EASA further advises that Airbus Helicopters has developed an improved mono-stable (closed) flip guard, and EASA AD No. 2017-0038 requires installing the new flip guard and re-identifying the collective lever switch unit.

Comments

We gave the public the opportunity to participate in developing this final rule, but we did not receive any comments on the NPRM.

FAA's Determination

These helicopters have been approved by EASA and are approved for operation in the United States. Pursuant to our bilateral agreement with the European Union, EASA has notified us of the unsafe condition described in the EASA AD. We are issuing this AD because we evaluated all information provided by EASA and determined the unsafe condition exists and is likely to exist or develop on other helicopters of these same type designs and that air safety and the public interest require adopting the AD requirements as proposed.

Differences Between This AD and the EASA AD

The EASA AD applies to Airbus Helicopters Model MBB-BK 117 D-2m helicopters, whereas this AD does not since these models are not type certificated in the U.S. Also, the EASA AD requires compliance within 440 hours time in service (TIS), however, this AD requires compliance before the next hoist operation or within 440 hours TIS, whichever occurs first. Finally, the EASA AD requires identifying the collective lever switch unit with the service information number; this AD does not.

Related Service Information

Airbus Helicopters has issued Alert Service Bulletin No. MBB-BK117 D-2-67A-002, Revision 0, dated January 23, 2017. This service information contains procedures for replacing flip guard P/N 79552176 with improved flip guard P/N 79553511 and for identifying the collective lever switch unit with the alert service bulletin number.

Costs of Compliance

We estimate that this AD affects 21 helicopters of U.S. Registry. At an average labor rate of $85 per hour, we estimate that operators may incur the following costs in order to comply with this AD.

Replacing the flip guard requires about 14 hours, and required parts cost $735, for a cost per helicopter of $1,925 and a cost of $40,425 to the U.S. fleet.

According to Airbus Helicopter's service information, some of the costs of this AD may be covered under warranty, thereby reducing the cost impact on affected individuals. We do not control warranty coverage by Airbus Helicopters. Accordingly, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-11-04 Airbus Helicopters Deutschland GmbH: Amendment 39-19650; Docket No. FAA-2018-0696; Product Identifier 2017-SW-101-AD.

(a) Applicability

This AD applies to Airbus Helicopters Deutschland GmbH Model MBB-BK 117 D-2 helicopters, certificated in any category, with a cable cut flip guard (flip guard) part number (P/N) 79552176 installed.

(b) Unsafe Condition

This AD defines the unsafe condition as unintended lifting of a flip guard. This condition could result in inadvertent cutting of the rescue hoist cable and subsequent personal injury.

(c) Effective Date

This AD is effective July 12, 2019.

(d) Compliance

You are responsible for performing each action required by this AD within the specified compliance time unless it has already been accomplished prior to that time.

(e) Required Actions

Before the next hoist operation or within 440 hours time in service, whichever occurs first, remove flip guard P/N 79552176 from service and install flip guard P/N 79553511 on the collective lever switch unit.

(f) Alternative Methods of Compliance (AMOCs)

(1) The Manager, Safety Management Section, Rotorcraft Standards Branch, FAA, may approve AMOCs for this AD. Send your proposal to: Clark Davenport, Flight Test Engineer, Flight Test Branch, Compliance and Airworthiness Division, FAA, 10101 Hillwood Parkway, Fort Worth, TX 76177; telephone 817-222-5151; email 9-ASW-FTW-AMOC-Requests@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) Airbus Helicopters Alert Service Bulletin No. MBB-BK117 D-2-67A-002, Revision 0, dated January 23, 2017, which is not incorporated by reference, contains additional information about the subject of this AD. For service information identified in this AD, contact Airbus Helicopters, 2701 N Forum Drive, Grand Prairie, TX 75052; phone: (972) 641-0000 or (800) 232-0323; fax: (972) 641-3775; or at http://www.helicopters.airbus.com/website/en/ref/Technical-Support_73.html. You may review the referenced service information at the FAA, Office of the Regional Counsel, Southwest Region, 10101 Hillwood Pkwy., Room 6N-321, Fort Worth, TX 76177.

(2) The subject of this AD is addressed in European Aviation Safety Agency (EASA) AD No. 2017-0038, dated February 22, 2017. You may view the EASA AD on the internet at http://www.regulations.gov in Docket No. FAA-2018-0696.

(h) Subject

Joint Aircraft Service Component (JASC) Code: 6700 Rotorcraft Flight Control.

Issued in Fort Worth, Texas, on May 31, 2019.
Lance T. Gant,
Director, Compliance & Airworthiness Division, Aircraft Certification Service.

[FR Doc. 2019-11993 Filed 6-6-19; 8:45 am]

BILLING CODE 4910-13-P